DEPARTMENT OF THE TREASURY

Bureau of Engraving and Printing

Proposed Collection; Comment Request

ACTION: Notice and request for comments.

SUMMARY: The Department of the Treasury, as part is its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Engraving and Printing within the Department of the Treasury is soliciting comments concerning the public awareness of new currency design features.

DATES: Written comments should be received on or before June 12, 2001 to be assured of consideration.

ADDRESS: Direct all written comments to Department of the Treasury, Bureau of Engraving and Printing, Lisa DiNunzio, 14th and C Streets SW., Washington, DC 20228, 202-927-3386, lisa.dinunzio@bep.treas.gov.

FOR FURTHER INFORMATION CONTACT: Requests for additional information or copies of the form(s) and instructions should be directed to the Department of the Treasury, Bureau of Engraving and Printing, Pam Grayson, 14th and C Streets SW., Washington, DC 20228, 202-874-2212, pam.grayson@bep.treas.gov.

SUPPLEMENTARY INFORMATION: Title: Public Awareness Survey of New Currency Design.

Abstract: Since 1996, the Bureau of Engraving and Printing (BEP) has been producing Series 1996 Federal Reserve Notes. This series is based on a new design with counterfeit deterrence features intended to better enable the general public to recognize genuine currency and distinguish it from counterfeits. The Bureau of Engraving and Printing is prepared to release the next generation of currency as early as the year 2003, and the Federal Reserve, BEP and United States Secret Service are once again initiating a new design effort. To aid in effective selection of counterfeit deterrence features for the next design, the BEP is sponsoring a study to assess how well the features in the Series 1996 design have worked.

Current Actions: The purpose of this study is to evaluate how knowledgeable the public is of the new currency; and to evaluate the usefulness of the new currency features for authentication. The purpose behind having the research plan in two non-current phases is to analyze the results of phase one and incorporate them into the final format and content of phase two. In addition, phase two research activity needs to be scheduled to synchronize with a similar study that will be implemented by the Dutch Government and the European Community.

Type of Review: New.

Affected Public: Individuals or households.

Estimated Number of Respondents: 2,400.

Estimated Total Annual Burden Hours: 600.

Request for Comments: Comments submitted in response to this notice will be summarized and/or included in the request for OMB approval. All comments will become a matter of public record. Written comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: April 6, 2001.
Lisa DiNunzio,
Program Manager, Securities Technology Institute.

[FR Doc. 01-9442 Filed 4-16-01; 8:45 am]

BILLING CODE 4840-01-U